ENVIRONMENTAL PROTECTION AGENCY

[ER-FRL-9023-3]

Environmental Impact Statements; Notice of Availability

Responsible Agency: Office of Federal Activities, General Information (202) 564-7146 or http://www2.epa.gov/nepa.

Receipt of Environmental Impact Statements (EISs) Filed 09/28/2015 Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150283, Draft, NOAA, LA, PROGRAMMATIC—Deepwater Horizon Oil Spill: Draft Programmatic Damage Assessment and Restoration Plan, Comment Period Ends: 12/04/2015, Contact: Courtney Groeneveld 301-427-8666

Dated: September 28, 2015.
Karin Leff,
Acting Director,NEPA Compliance Division,Office of Federal Activities.

[FR Doc. 2015-24929 Filed 10-2-15; 8:45 am]

BILLING CODE 6560-50-P